DEPARTMENT OF TRANSPORTATION

Federal Aviation Administration

Approval of Noise Compatibility Program; Vero Beach Municipal Airport; Vero Beach, FL

AGENCY: Federal Aviation Administration, DOT.

ACTION: Notice.

SUMMARY: The Federal Aviation Administration (FAA) announces its findings on the noise compatibility program submitted by the City of Vero Beach, Florida under the provisions of 49 U.S.C. (the Aviation Safety and Noise Abatement Act, hereinafter referred to as “the Act”) and 14 CFR part 150. These findings are made in recognition of the description of Federal and nonfederal responsibilities in Senate Report No. 96-52 (1980). On October 28, 2003, the FAA determined that the noise exposure maps submitted by the City of Vero Beach, Florida under part 150 were in compliance with applicable requirements. On April 28, 2006, the FAA approved the Vero Beach Municipal Airport noise compatibility program. Most of the recommendations of the program were approved.

DATES: Effective Date: The effective date of the FAA's approval of the Vero Beach Municipal Airport noise compatibility program is April 28, 2006.

FOR FURTHER INFORMATION CONTACT: Ms. Lindy McDowell, Federal Aviation Administration, Orlando Airports District Office, 5950 Hazeltine National Dr., Suite 400, Orlando, Florida 32822, (407) 812-6331, Extension 130. Documents reflecting this FAA action may be reviewed at this same location.

SUPPLEMENTARY INFORMATION: This notice announces that the FAA has given its overall approval to the noise compatibility program for Vero Beach Municipal Airport, effective April 28, 2006.

Under Section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each point noise compatibility program developed in accordance with Federal Aviation Regulations (FAR) Part 150 is a local program, not a Federal Program. The FAA does not substitute its judgment for that of the airport proprietor with respect to which measure should be recommended for action. The FAA's approval or disapproval of FAR part 150 program recommendations is measured according to the standards expressed in part 150 and the Act, and is limited to the following determinations.

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

The City of Vero Beach, Florida submitted to the FAA on July 16, 2003, the noise exposure maps, descriptions, and other documentation produced during the noise computability planning study conducted from September 6, 2002, through November 2, 2005. The Vero Beach Municipal Airport noise exposure maps were determined by FAA to be in compliance with applicable requirements on October 28, 2003. Notice of this determination was published in the Federal Register on October 28, 2003.

The Vero Beach Municipal Airport study contains a proposed noise compatibility program comprised of actions designed for phased implementation by airport management and adjacent jurisdictions from April 28, 2006 beyond the year 2011. It was requested that FAA evaluate and approve this material as a noise compatibility program as described in section 47504 of the Act. The FAA began its review of the program on November 2, 2005 and was required by a provisions of the Act to approve or disapprove the program within 180-days (other than the use of new or modified flight procedures for noise control). Failure to approve or disapprove such program within the 180-day period shall be deemed to be an approval of such program.

The submitted program contained eleven (11) proposed actions for noise mitigation (on and off the airport). The FAA completed its review and determined that the procedural and substantive requirements of the Act and FAR Part 150 have been satisfied. The overall program, therefore, was approved by the FAA effective April 28, 2006.

Outright approval was granted for six (6) of the specific program elements. One (1) measure was disapproved because of its impact on the safe and efficient use of airspace and four (4) were approved in part. Partial approval was based on issues outside of the 65 DNL contour of which the local community determined that no non-competitive land uses exist.

Operational Measures

1. Maintenance Run-Up Practices

This measure is to amend the existing voluntary procedures for Aircraft Engine Maintenance Run-ups to include that aircraft will be oriented in a northerly direction during calm wind and other proper wind conditions at the existing run-up pad. Should this method prove unsatisfactory following implementation, the alternative of aircraft orientation plus noise barrier/earth berm may be pursued based upon further analysis.

The existing maintenance engine run-up procedures will continue with the following measures: All maintenance run-up areas must be considered to ensure safety, practicality and the most community friendly location; Maintenance run-ups should be preformed at an established maintenance run-up area on the tenant's leased property for no more than 15-20 minutes at a time; For extended run-ups or multiple run-ups proportionate to the 15-20 minute limit, run-ups shall be completed on the run-up area for Runway 22 or Runway 11R; and, Maintenance run-ups should be scheduled between the hours of 7 a.m. and 9 p.m. In the event a maintenace run-up must be performed beyond the permitted hours, the run-ups should take place at the Designated Run-up Locations (Figure 2.2). (NCP, pages 13, 15-18, Figure 2.2, Figure 2.3, and Figure 2.4).

FAA Action: Continuation of existing maintenance run-up procedures, as modified, is approved as voluntary as traffic, weather, and airspace safety and efficiency permit.

Further analysis of a noise barrier/earth berm is approved.

2. Voluntary Touch and Go Flight Training Procedures

The City of Vero Beach will continue the following current touch and go procedures: Runway 11L/29R and 4/22 will be closed to touch and go traffic when the tower is closed (currently 9 a.m. to 7 a.m.); Runway 11R will use left traffic pattern when the tower is closed; Runway 29L will use a right traffic pattern when the tower is closed; The Traffic Pattern Altitude (TPA) for propeller aircraft will be 1,000 feet above ground level and turboprop and jet aircraft will use 1,500 feet above ground level; Touch and go operations are strongly discouraged during the hours of 10 p.m. to 7 a.m. (local) Monday-Saturday, and 10 p.m. to 12 noon (local) on Sunday; and, Intersection departures are discouraged. (NCP, pages 19-21).

FAA Action: Approved in part as voluntary, disapproved in part.

Measures to set the traffic pattern altitude and hours of touch and go operations are approved as voluntary. Page 21 states “The revised NEM (Figure 2.1) reflects the benefits of this measure by maintaining the DNL contours within areas of compatible land use.”

The measure to close the crosswind runway is disapproved. For purposes of aviation safety, the crosswind runway should be made available to use during high crosswind conditions regardless of the time of day. There is insufficient information in the NCP about potentital noise benefits if this measure were to be implemented on a voluntary basis.

The measure to have converging traffic patterns (Runway 11R left traffic pattern with Runway 29L right traffic pattern) when the tower is closed is disapproved. The FAA considers this procedure to have the potential to cause unsafe situation.

3. Voluntary Noise Abatement Departure Procedures

The City of Vero Beach will continue to recommend that pilots use National Business Aviation Association (NBAA) close-in noise abatement departure profile. (NCP, pages 21-22)

FAA Action: Approved as voluntary as traffic, weather, and airspace safety and efficiency permit.

4. Runway 11R Straight-out Noise Abatement Departure Track for Jet Aircraft

The following changes to jet aircraft departure tracks are recommended:

• At the appropriate time with regard to the installation of the Vero Beach (VRB) ASR-11, the City of Vero Beach will initiate the development of a Departure Procedure to facilitate the use of the straight-out noise abatement departure track for Runway 11R, and potentially Runway 29L.

• For Runway 11R, following the installation and commissioning of the VRB ASR-11, departing jet aircraft may be assigned a straight-out departure heading.

• Until comissioning of VRB ASR-11, Runway 11R will maintain use of alternatve straight-out, left and right departure headings. (NCP, pages 22-24)

FAA Action: Disapproved. All three headings for departures on Runway 11R are required for successive departures because of current non-radar services, as determined by FAA's Miami ARTCC. In addition, this measure does not satisfy FAR Part 150 approval criteria because it does not provide evidence of a noise benefit.

Land Use Measures

5. Airport Zoning

The City of Vero Beach recommends that the Noise Impact Zone, which is currently defined as the area extending from the edge of the pavement of each runway a distance equal to one mile on either side of each runway centerline, and two miles at the end of each runway, be revised to encompass areas of known high community annoyance and areas where noise monitoring and modeling data support special consideration. (NCP, pages 25-28, Figure 2.5)

FAA Action: Approval in part. This measure is approved to the extent it includes the existing and forecasts NEM DNL 65 dB noise contour. The DNL 65dB noise contour falls completely on airport property. The airport sponsor adopted the Federal guidelines designating DNL 65 dB as the level at which aircraft noise is compatible with residential land uses and the local jurisdiction has not adopted local land use compatibility standard below the DNL 65 dB contour. Outside the DNL 65 dB contour, FAA as a matter of policy encourages local efforts to prevent new noncompatible development immediately abutting the DNL 65 dB contour and to provide a buffer for possible growth in noise contours beyond the forecast period. The federal government has no authority to conrol land use. Local governments have the authority to implement this measure.

6. Real Estate Disclosure

The City of Vero Beach recommends the following:

• The City of Vero Beach will publish the airport noise exposure contours in the Vero Beach Press Journal and Hometown News three times each year. The publication will include a diagram of the contours overlaid with an illustration of the Noise Impact Zones and three-mile notification area;

• The City of Vero Beach will send the contours along with appropriate text to explain the contours and their meaning, on a routine basis, to the Indian River County Board of Realtors for their notification;

• The City of Vero Beach will develop a method to notify indivdiual property owners of their location within the three-mile notification area; and,

• The City of Vero Beach should monitor efforts of the Florida Legislature to enact a State Statute requiring real estate disclosure at all airports. (NCP, page 28)

FAA Action: Approved in part. Elements recommending publication of the noise contours, distributing and explaining the meaning of the noise contours to the Board of Realtors, and monitoring efforts of the Florida Legislature to enact a State statute requiring real estate disclosure at all airports are approved. The DNL 65 dB noise contour falls completely on airport property. Outside the DNL 65 dB contour, FAA as a matter of policy encourages local efforts to prevent new noncompatible development immediately abutting the DNL 65 dB contour and to provide a buffer for possible growth in noise contours beyond the forecast period. The federal government has no authority to control land use. Local governments have the authority to implement this measure.

7. Periodic Noise, Operations and Flight Track Monitoring

The City of Vero Beach recommends the periodic collection of data as part of the NCP implementation to evaluate the effectiveness of the voluntary touch and go training procedures and the “close-in” noise departure procedure by jet aircraft. It will allow the City of Vero Beach to monitor any changes in the airport's fleet mix and other operational characteristics that may trigger the need to revise the noise exposure maps of the NCP. (NCP, pages 28-30)

FAA Action: Approved in part. Approved with respect to monitoring to determine if operational increases or other changes at the airport occur that are of sufficient magnitude to significantly affect the 5-year NEM 65 dB noise contour. The airport sponsor adopted the Federal guidelines designating DNL 65 dB as the level at which aircraft noise is compatible with residential land uses and the local jurisdiction has not adopted local land use compatibility standard below the DNL 65 dB contour. For purposes of aviation safety, this approval does not extend to the use of monitoring equipment for enforcement purposes by in-situ measurement of any present noise thresholds and shall not be used for mandatory enforcement of any voluntary measure.

8. Pilot Education

This program includes publication of flight cards or inserts designed to fit into a pilot's flight manual, customized poster to be placed in all FBO flight planning rooms and flight schools, and an informational handout to be provided to the area's flight training students, and available at FAA Flight Standards District Office pilot safety and training seminars. (NCP, pages 30-31)

FAA Action: Approved. Inserts or other information must not be construed as mandatory air traffic procedure. The content of the inserts are subject to specific approval by appropriate FAA officials outside of the FAR Part 150 process and are not approved in advance by this determination.

9. Community Information Program

The City of Vero Beach recommends the development of an ongoing community information program to maintain the current level of education of involved citizens, and to reach new residents and others who become interested in the activities at VRB and the City's efforts to control aircraft noise impacts. (NCP, page 31)

FAA Action: Approved.

10. Annual Review of NCP Implementation

The City of Vero Beach recommends the annual review of the implementation status of the NCP measures.

FAA Action: Approved. The airport sponsor has indicated in a letter dated 4/20/06 that under this measure, the NCP would be updated if made necessary by changes to the NEM (150.23(e)(9)).

11. FAA ATCT Tower Order

The City of Vero Beach recommends that an FAA Tower Order is the appropriate mechanism to document the elements of the recommended program that will be implemented by local air traffic control tower personnel. The FAA will develop the Tower Order, with input from the City of Vero Beach, to meet certain FAA ATCT standards. The Order will be signed by the local tower manager, and will outline the purpose, the background of its development, the effective date and who or what types of aircraft or operators it applies to, and a description of what actions the ATCT will take to implement the measures.

FAA Action: Approved for operational measures within this ROA that normally would be included in a tower order (for example, the touch and go procedures and altitudes). The FAA will determine the appropriate elements of the noise compatibility program to include in the Order, and the language describing them, consistent with applicable Federal requirements.

These determinations are set forth in detail in a Record of Approval signed by the FAA on April 28, 2006. The Record of Approval, as well as other evaluation materials and the documents comprising the submittal, are available for review at the FAA office listed above and at the administrative office of the City of Vero Beach, Florida. The Record of Approval also will be available online at http://www.faa.gov/arp/environmental/14cfr150/index14.cfm.

Issued in Orlando, Florida on May 2, 2006.
Bart Vernace,
Acting Manager, Orlando Airports District Office.

[FR Doc. 06-4622 Filed 5-17-06; 8:45 am]

BILLING CODE 4910-13-M